DEPARTMENT OF HEALTH AND HUMAN SERVICES

Centers for Disease Control and Prevention

Advisory Committee to the Director, Centers for Disease Control and Prevention (ACD, CDC)

Notice of Cancellation: This notice was published in the Federal Register on April 13, 2009, Volume 74, Number 69, page 16877. The meeting previously scheduled to convene on April 30, 2009 has been cancelled.

Contact Person for More Information: Brad Perkins, M.D., M.B.A., ACD, CDC, 1600 Clifton Road, NE., Mail Stop D-14, Atlanta, GA 30303; Telephone: (404) 639-7000.

The Director, Management Analysis and Services Office, has been delegated the authority to sign Federal Register notices pertaining to announcements of meetings and other committee management activities, for both CDC and the Agency for Toxic Substances and Disease Registry.

Dated: April 27, 2009.
Elaine L. Baker,
Director, Management Analysis and Services Office, Centers for Disease Control and Prevention.

[FR Doc. E9-10051 Filed 4-30-09; 8:45 am]

BILLING CODE 4163-18-P